NUCLEAR REGULATORY COMMISSION

[NRC-2009-0515]

Office of New Reactors; Proposed Standard Review Plan Appendix 18-A on Guidance for Crediting Manual Operator Actions in Diversity and Defense-in-Depth (D3) Analyses

AGENCY: Nuclear Regulatory Commission (NRC).

ACTION: Solicitation of public comment.

SUMMARY: The NRC staff is soliciting public comment on NUREG-0800, “Standard Review Plan for the Review of Safety Analysis Reports for Nuclear Power Plants,” (SRP) Appendix 18-A on Guidance for Crediting Manual Operator Actions in Diversity and Defense-in-Depth (D3) Analyses (Agencywide Documents Access and Management System (ADAMS) Accession No. ML092950353). This Appendix defines a methodology for evaluating manual operator action as a diverse means of coping with Anticipated Operational Occurrences and Postulated Accidents that are concurrent with a software Common Cause Failure of the Digital Instrumentation and Control (I&C) Protection System. This Appendix supersedes, and incorporates with limited modifications, the guidance in Section 3 of Digital I&C Interim Staff Guidance (ISG), Digital I&C-ISG-05, Revision 1, Highly Integrated Control Rooms—Human Factors Issues.

The NRC staff issues SRPs to facilitate timely implementation of current staff guidance and to facilitate activities associated with the review of applications for design certification (DC) and combined licenses (COLs) by the Office of New Reactors (NRO). The NRC staff will also incorporate the revised SRP section and Appendix 18-A into the next revisions of Regulatory Guide 1.206 and any related guidance documents.

DATES: Comments must be filed no later than 60 days from the date of publication of this notice in the Federal Register. Comments received after this date will be considered, if it is practical to do so, but the Commission is able to ensure consideration only for comments received on or before this date.

ADDRESSES: You may submit comments by any one of the following methods. Please include Docket ID: NRC-2009-0515 in the subject line of your comments. Comments submitted in writing or in electronic form will be posted on the NRC Web site and on the Federal rulemaking Web site at http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID: NRC-2009-0515. Address questions about NRC dockets to Carol Gallagher at 301-492-3668; e-mail at Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at 301-492-3446.

The NRC ADAMS provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff by telephone at 1-800-397-4209, 301-415-4737, or by e-mail at pdr.resource@nrc.gov.

FOR FURTHER INFORMATION CONTACT: Mr. Michael A. Junge, Chief, Operator Licensing and Human Performance Branch, Division of Construction Inspection and Operational Programs, Office of New Reactors, U.S. Nuclear Regulatory Commission, Washington, DC, 20555-0001; telephone at 301-415-7745 or e-mail at Michael.Junge@nrc.gov.

SUPPLEMENTARY INFORMATION: This SRP, NUREG-0800, has been prepared to establish criteria that the NRO staff use to evaluate if DC and COL applications meet the NRC's regulations. The SRP is not a substitute for the NRC's regulations, and compliance with it is not required. However, applicants are required to identify differences in design features, analytical techniques, and procedural measures proposed for a facility and corresponding SRP acceptance criteria, and evaluate how the proposed alternatives to the acceptance criteria provide an acceptable method of complying with the NRC's regulations.

The agency posts its issued staff guidance in the agency external Web page (http://www.nrc.gov/reading-rm/doc-collections/nuregs/staff/sr0800).

The NRC staff is issuing this notice to solicit public comments on proposed Appendix 18-A, which is being issued for the first time. After the NRC staff considers any public comments, it will make a determination regarding proposed Appendix 18-A.

Dated at Rockville, Maryland, this 20th day of November 2009.
For the Nuclear Regulatory Commission.
William F. Burton,
Chief, Rulemaking and Guidance Development Branch, Division of New Reactor Licensing, Office of New Reactors.

[FR Doc. E9-28376 Filed 11-25-09; 8:45 am]

BILLING CODE 7590-01-P